DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: FEMA Public Assistance Program Evaluation and Customer Satisfaction Survey.

OMB Number: 1660-NW32.

Abstract: The purpose of the proposed survey is to measure FEMA's Public Assistance (PA) program performances and achievements against customer service standards of Executive Order 12862 of September 11, 1993, as well as Government Performance and Results Act of 1993 (GPRA) objectivities. Survey results are used to gauge satisfaction levels of PA customers, and make improvements to disaster services that focus on customer satisfaction and program effectiveness.

Affected Public: Business or other for-profit; Not-for-profit institutions; Farms; Federal Government; and State, local or tribal Governments.

Number of Respondents: 2,500 for survey; 20 for focus group.*

Estimated Time per Respondent: 0.3 hours per survey; 6 hours per focus group.*

Estimated Total Annual Time Burden: 870 hours.*

Annual Frequency of Response: 1.

* The estimate changes from the May 15, 2007 proposed collection, 72 FR 27321, reflect re-estimation of the number of disasters, PA applicants and focus group activities.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before October 17, 2007.

FOR FURTHER INFORMATION CONTACT: Requests for additional information or copies of the information collection should be made to Director, Office of Records Management, FEMA, 500 C Street, SW., Room 609, Washington, DC 20472, facsimile number (202) 646-3347, or e-mail address FEMA-Information-Collections@dhs.gov.

Dated: September 11, 2007.
John A. Sharetts-Sullivan,
Director, Office of Records Management, Office of Management Directorate, Federal Emergency Management Agency, Department of Homeland Security.

[FR Doc. E7-18289 Filed 9-14-07; 8:45 am]

BILLING CODE 9111-23-P